DEPARTMENT OF TRANSPORTATION

Pipeline and Hazardous Materials Safety Administration

[Docket No. PHMSA-2013-0004]

Pipeline Safety: Information Collection Activities, Revision to Gas Distribution Annual Report

AGENCY: Pipeline and Hazardous Materials Safety Administration (PHMSA), DOT.

ACTION: Notice and request for comments.

SUMMARY: PHMSA is preparing to request Office of Management and Budget (OMB) approval for the revision of the gas distribution annual report currently approved under OMB control number 2137-0522. In addition to making several minor changes to the report, PHMSA will also request a new OMB control number for this information collection. In accordance with the Paperwork Reduction Act of 1995, PHMSA invites comments on the proposed revisions to the form and instructions.

DATES: Interested persons are invited to submit comments on or before June 27, 2014.

ADDRESSES: Comments may be submitted in the following ways:

E-Gov Web Site: http://www.regulations.gov. This site allows the public to enter comments on any Federal Register notice issued by any agency.

Fax: 1-202-493-2251.

Mail: Docket Management Facility, U.S. Department of Transportation (DOT), 1200 New Jersey Avenue SE., West Building, Room W12-140, Washington, DC 20590-0001.

Hand Delivery: Room W12-140 on the ground level of DOT, West Building, 1200 New Jersey Avenue SE., Washington, DC, between 9:00 a.m. and 5:00 p.m., Monday through Friday, except Federal holidays.

Instructions: Identify the docket number, PHMSA-2013-0004, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19476) or visit http://www.regulations.gov before submitting any such comments.

Docket: For access to the docket or to read background documents or comments, go to http://www.regulations.gov at any time or to Room W12-140 on the ground level of DOT, West Building, 1200 New Jersey Avenue SE., Washington, DC, between 9:00 a.m. and 5:00 p.m., Monday through Friday, except Federal holidays. If you wish to receive confirmation of receipt of your written comments, please include a self-addressed, stamped postcard with the following statement: “Comments on: PHMSA-2013-0004.” The docket clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by fax at 202-366-4566, or by mail at DOT, PHMSA, 1200 New Jersey Avenue SE., PHP-30, Washington, DC 20590-0001.

SUPPLEMENTARY INFORMATION:

A. Background

Section 1320.8(d), Title 5, Code of Federal Regulations, requires PHMSA to provide interested members of the public and affected agencies an opportunity to comment on information collection and recordkeeping requests. This notice identifies an information collection request for the gas distribution annual report that PHMSA will be submitting to OMB for approval. PHMSA made a similar proposal on February 13, 2013. Based on comments received, PHMSA has now eliminated redundancies in the leak cause category descriptions.

B. Gas Distribution Annual Report

PHMSA intends to revise the gas distribution annual report (PHMSA F 7100.1-1, gas distribution annual report) to resolve conflicts and improve the granularity of the data collected. Background for these topics is as follows:

Specify Commodity:

We have added a section for operators to specify the commodity type transported, similar to the gas transmission and hazardous liquid reporting forms. These commodity groups are: “Natural Gas,” “Synthetic Gas,” “Hydrogen Gas,” “Propane Gas,” “Landfill Gas,” and “Other Gas.” Operators will select a commodity group based on the predominant gas carried and complete the report for that commodity group. If “Other Gas” is selected, operators will need to provide the name of the other gas. Operators will need to file a separate report for each commodity group transported.

Specify Operator Type:

We have added a section to the report for submitters to identify the operator type. The operator type groups include “Investor Owned”; “Municipally Owned,” “Privately Owned,”; ”Cooperative,” and “Other Ownership”. If “Other Ownership” is selected, operators will need to describe the ownership type.

Additional Material Type: We are adding “Reconditioned Cast Iron” as a pipe material and defining it as a cast iron gas distribution pipe that has been lined internally by use of suitable materials that ensure safe operation at a maximum allowable operating pressure (MAOP) not to exceed the previously established MAOP. “Reconditioned Cast Iron” does not include cast iron pipe inserted with a gas pipe that is, by itself, suitable for gas service under Part 192, (e.g., an ASTM D2513 pipe meeting code requirements for the intended gas service.) Such insertions are to be reported as the material used in the insertion. The definition is intended to make a clear distinction between a liner and inserted pipe. Reconditioning techniques would not include new, stand-alone polyethylene pipe, composite pipe, or a tight fitting liner that does not rely on the structural integrity of the host pipe (the cavity of the host pipe is simply used for installation purposes). Other methods, such as pipe splitting or bursting that involve the installation of a new stand-alone pipe while the host pipe is destroyed do not result in “Reconditioned Cast Iron”.

Removal of Requirement to Populate Certain Fields in Part B Tables:

We have streamlined the report by removing the requirement to populate certain fields in Tables B1, B2, and B3 as that data will now be calculated automatically and populated appropriately from certain other fields in the tables.

Revision of Leak Cause Categories in Part C:

To improve efficiency and consistency, we have revised the “Cause of Leak” categories in Part C to align with the leak causes in the gas distribution annual report with the incident causes from the gas distribution incident reporting form (PHMSA F 7100.1, Incident Report—Gas Distribution System).

Addition of Excavation Damage Cause Categories in Part D:

We added a new data collection in “Excavation Damage” to include the four causes from Part I of the “Damage Information Reporting Tool (DIRT)—Field Form.” These cause categories are also aligned with the fields that must be completed in Part G4, field number 14 in the gas distribution incident reporting form.

C. Summary of Impacted Collections

The following information is provided below for the impacted information collection: (1) Title of the information collection; (2) OMB control number; (3) Current expiration date; (4) Type of request; (5) Abstract of the information collection activity; (6) Description of affected public; (7) Estimate of total annual reporting and recordkeeping burden; and (8) Frequency of collection.

PHMSA requests comments on the following information collection:

1. Title: Annual Report for Gas Distribution Pipeline Operators.

OMB Control Number: N/A.

Current Expiration Date: N/A.

Type of Request: New Collection.

Abstract: PHMSA intends to revise the gas distribution annual report (PHMSA F 7100.1-1) to improve the granularity of the data collected in several areas.

Affected Public: Gas distribution pipeline operators.

Annual Reporting and Recordkeeping Burden:

Total Annual Responses: 1,440.

Total Annual Burden Hours: 23,040.

Frequency of Collection: Annually.

Comments are invited on:

(a) The need for the proposed collection of information, including whether the information will have practical utility in helping the agency to achieve its pipeline safety goals;

(b) The accuracy of the agency's estimate of the burden of the proposed collection of information;

(c) Ways to enhance the quality, utility, and clarity of the information to be collected; and

(d) Ways to minimize the burden of the collection of information on those who are to respond, including the use of appropriate automated, electronic, mechanical, or other technological collection techniques.

Jeffrey D. Wiese,
Associate Administrator for Pipeline Safety.

[FR Doc. 2014-09538 Filed 4-25-14; 8:45 am]

BILLING CODE 4910-60-P